DEPARTMENT OF LABOR

Wage and Hour Division

Proposed Extension of the Approval of Information Collection Requirements

AGENCY: Wage and Hour Division, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95). 44 U.S.C. 3506(c)(2)(A). This program helps to ensure that requested data can be provided in the desired format, reporting burden (time and financial resources) is minimized, collection instruments are clearly understood, and the impact of collection requirements on respondents can be properly assessed. Currently, the Wage and Hour Division is soliciting comments concerning its proposal to extend Office of Management and Budget (OMB) approval of the Information Collection: Special Employment Under the Fair Labor Standards Act (Forms WH-2, WH-46, WH-75, WH-200, WH-201, WH-202, WH-205, and WH-209). A copy of the proposed information collection request can be obtained by contacting the office listed below in the FOR FURTHER INFORMATION CONTACT section of this Notice.

DATES: Written comments must be submitted to the office listed in the addresses section below on or before August 2, 2010.

ADDRESSES: You may submit comments identified by Control Number 1235-0001, by either one of the following methods:

E-mail: WHDPRAComments@dol.gov;

Mail, Hand Delivery, Courier: Regulatory Analysis Branch, Wage and Hour Division, U.S. Department of Labor, Room S-3502, 200 Constitution Avenue, NW., Washington, DC 20210.

Instructions: Please submit one copy of your comments by only one method. All submissions received must include the agency name and Control Number identified above for this information collection. Because we continue to experience delays in receiving mail in the Washington, DC area, commenters are strongly encouraged to transmit their comments electronically via e-mail or to submit them by mail early. Comments, including any personal information provided, become a matter of public record. They will also be summarized and/or included in the request for OMB approval of the information collection request.

FOR FURTHER INFORMATION CONTACT: Michel Smyth, Acting Director, Division of Interpretations and Regulatory Analysis, Wage and Hour Division, U.S. Department of Labor, Room S-3502, 200 Constitution Avenue, NW., Washington, DC 20210; telephone: (202) 693-0406 (this is not a toll-free number). Copies of this notice must be obtained in alternative formats (Large Print, Braille, Audio Tape or Disc), upon request, by calling (202) 693-0023 (not a toll-free number). TTY/TDD callers may dial toll-free (877) 889-5627 to obtain information or request materials in alternative formats.

SUPPLEMENTARY INFORMATION:

I. Background: Fair Labor Standards Act (FLSA) section 11(d) authorizes the Secretary of Labor to regulate, restrict, or prohibit industrial homework as necessary to prevent circumvention or evasion of the minimum wage requirements of the Act. 29 U.S.C. 211(d). The Department of Labor (DOL) restricts homework in seven industries (i.e., knitted outerwear, women's apparel, jewelry manufacturing, gloves and mittens, button and buckle manufacturing, handkerchief manufacturing, and embroideries) to those employers who obtain certificates. See 29 CFR 530.1-.2. The DOL may also issue individual certificates in any industry for an individual homeworker who is unable to leave home because of a disability or must remain at home to care for an invalid. See 29 CFR 530.3-.4. The DOL allows employers to obtain general (employer) certificates to employ homeworkers in all restricted industries, except women's apparel and hazardous jewelry manufacturing operations. See 29 CFR 530.101. Consistent with FLSA sections 11(d) and 14(c), the Wage and Hour Division (WHD) of DOL regulates the employment of industrial homeworkers and workers with disabilities covered by special certificates and governs the application and approval process for obtaining the certificates.

The FLSA also requires that the Secretary of Labor, to the extent necessary to prevent curtailment of employment opportunities, provide certificates authorizing the employment of full-time students at not less than 85 percent of the applicable minimum wage or less than $1.60, whichever is higher, in (1) retail or service establishments and agriculture (29 U.S.C. 214(b)(1); 29 CFR 519.1(a)); and (2) institutions of higher education (29 U.S.C. 214(b)(3); 29 CFR 519.11(a)). The FLSA and the regulations set forth the application requirements as well as the terms and conditions for the employment of full-time students at subminimum wages under certificates and temporary authorization to employ such students at subminimum wages. The subminimum wage programs are designed to increase employment opportunities for full-time students. Regulations issued by the U.S. Department of Labor (DOL), Bureau of Apprenticeship and Training (BAT) no longer permit the payment of subminimum wages to apprentices in an approved program. 29 CFR 29.5(b)(5). The DOL, thus, has issued no apprentice certificates since 1987; however, the WHD must maintain the information collection in order for the agency to fulfill its statutory obligation under FLSA to maintain this program. In order to improve the management of its information collections, the DOL is proposing to consolidate the information collections related to special employment under the FLSA into a single OMB control number, 1235-0001. A list of the current control numbers appears near the end of this Notice.

II. Review Focus: The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The DOL seeks approval for the extension of this information collection in order to ensure effective administration of various special employment programs.

Type of Review: Extension.

Agency: Wage and Hour Division.

Title: Special Employment Under the Fair Labor Standards Act.

OMB Numbers: 1235-0001, 1235-0019, 1235-0020, 1235-0022.

Agency Numbers: Forms WH-2, WH-46, WH-75, WH-200, WH-201, WH-202, WH-205, WH-209, WH-226, WH-226a.

Affected Public: Businesses or other for-profits and non-profits.

Respondents: 308,055.

Total Annual Responses: 308,055.

Estimated Total Burden Hours: 614,688.

Estimated Time per Response: 30 to 60 minutes.

Frequency: On occasion.

Total Burden Costs (capital/startup): $0.

Total Burden Costs (operation/maintenance): $1,957.08.

Dated: May 27, 2010.
Michel Smyth,
Acting Director, Division of Interpretations and Regulatory Analysis.

[FR Doc. 2010-13282 Filed 6-1-10; 8:45 am]

BILLING CODE 4510-27-P